DEPARTMENT OF COMMERCE

Bureau of Industry and Security

15 CFR Part 744

[Docket No. 220203-0039]

RIN 0694-AI70

Addition of Certain Entities to the Entity List

AGENCY: Bureau of Industry and Security, Commerce.

ACTION: Final rule.

SUMMARY: This final rule amends the Export Administration Regulations (EAR) by adding seven entities under seven entries to the Entity List. These seven entities have been determined by the U.S. Government to be acting contrary to the foreign policy or national security interests of the United States and will be listed on the Entity List under the destinations of the People's Republic of China (China), Pakistan, and the United Arab Emirates (UAE). This final rule also modifies four existing entries on the Entity List under the destination of China.

DATES: This rule is effective February 14, 2022.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

Entity List

The Entity List (supplement no. 4 to part 744 of the EAR) identifies entities for which there is reasonable cause to believe, based on specific and articulable facts, that the entities have been involved, are involved, or pose a significant risk of being or becoming involved in activities contrary to the national security or foreign policy interests of the United States. The EAR (15 CFR parts 730-774) impose additional license requirements on, and limit the availability of most license exceptions for, exports, reexports, and transfers (in-country) to listed entities. The license review policy for each listed entity is identified in the “License Review Policy” column on the Entity List, and the impact on the availability of license exceptions is described in the relevant Federal Register document adding entities to the Entity List. BIS places entities on the Entity List pursuant to part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

ERC Entity List Decisions

Additions to the Entity List

This rule implements the decision of the ERC to add seven entities under seven entries to the Entity List. The entities are located in the People's Republic of China (China), Pakistan, and the UAE. Of the seven entries, one is located in China, five are located in Pakistan, and one is located in the UAE.

The ERC determined to add Chemtech International (Private) Limited, Engineering Materials and Equipment Co., Inspectech, Value Additions (Pvt) Ltd., and X-Cilent Engineering, all under the destination of Pakistan, and Odyssey General Trading FZC, under the destination of the UAE, to the Entity List under §§ 744.2, which describes restrictions on certain nuclear end-users, and 744.11(b) of the EAR.

In addition, the ERC determined to add Jiangsu Tianyuan Metal Powder Co. Ltd. to the Entity List under §§ 744.11(b), 744.20 (license requirements that apply to certain sanctioned entities), and 746.4 (North Korea) of the EAR. The entity is added to the Entity List under the destination of China based on a determination that was made by the U.S. Department of State (84 FR 23627) that it engaged in activities that warranted the imposition of measures pursuant to Section 3 of the Iran, North Korea, and Syria Nonproliferation Act (Pub. L. 106-178).

Pursuant to §§ 744.2, 744.11(b), 744.20, and 746.4 of the EAR, the ERC determined that the conduct of the above-described entities raises sufficient concerns that prior review, via the imposition of a license requirement for exports, reexports, or transfers (in-country) of all items subject to the EAR involving these seven entities and the possible issuance of license denials or the possible imposition of license conditions on shipments to these entities, will enhance BIS's ability to prevent violations of the EAR or otherwise protect U.S. national security or foreign policy interests.

For the entities added to the Entity List in this final rule, BIS imposes a license requirement that applies to all items subject to the EAR. In addition, no license exceptions are available for exports, reexports, or transfers (in-country) to the persons being added to the Entity List in this rule. For the one entity being added to the Entity List under China, BIS imposes a license review policy of a presumption of denial. For the five entities being added under Pakistan and one entity being added under the UAE, BIS imposes the license review policy set forth in § 744.2(d) of the EAR. The acronym “a.k.a.,” which is an abbreviation of ‘also known as,’ is used in entries on the Entity List to identify aliases, thereby assisting exporters, reexporters and transferors in identifying entities on the Entity List.

For the reasons described above, this final rule adds the following seven entities under seven entries to the Entity List and includes, where appropriate, aliases:

China

• Jiangsu Tianyuan Metal Powder Co. Ltd.

Pakistan

• Chemtech International (Private) Limited;

• Engineering Materials and Equipment Co.;

• Inspectech;

• Value Additions (Pvt) Ltd.; and

• X-Cilent Engineering

United Arab Emirates

• Odyssey General Trading FZC

Revisions to the Entity List

This rule revises the Entity List entries of Huawei Cloud Brazil, under the destination of Brazil, and Huawei Technologies Co. Ltd. and Wavelet, under the destination of China. This final rule corrects a typographical error in the city name for the address listed for the existing entity for Huawei Cloud Brazil. This final rule also revises the entry for Wavelet by adding the punctuation necessary to delineate between the addresses that are already listed. This corrects an error made in the original publication of the rule adding Wavelet to the Entity List, which failed to separate the entry's address in Shenzhen, China, from its address in Hong Kong, with the appropriate punctuation.

Additionally, BIS is revising the Entity List to mitigate confusion, by combining the two existing entries entitled “Huawei Technologies Co. Ltd.” This change does not alter BIS policy regarding the entries. Currently, the Entity List includes one entry for “Huawei Technologies Co., Ltd.” at a Hong Kong address, and a second entry for the same entity with addresses of multiple other locations in China. This rule combines the two entries into one. As the confusion created by the two entries kept the Federal Register from implementing changes to a previous rule (86 FR 71557), this rule also adds three aliases (HMN Technologies, Huahai Zhihui Technology Co., Ltd., and HMN Tech) under one of Huawei Technologies Co., Ltd.'s affiliated entities, Huawei Marine Networks, to the newly combined entry.

Savings Clause

Shipments of items removed from eligibility for a License Exception or export, reexport, or transfer (in-country) without a license (NLR) as a result of this regulatory action that were enroute aboard a carrier to a port of export, reexport, or transfer (in-country), on February 14, 2022, pursuant to actual orders for export, reexport, or transfer (in-country) to or within a foreign destination, may proceed to that destination under the previous eligibility for a License Exception or export, reexport, or transfer (in-country) without a license (NLR).

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and commodity classification, and carries a burden estimate of 29.6 minutes for a manual or electronic submission for a total burden estimate of 31,835 hours. Total burden hours associated with the PRA and OMB control number 0694-0088 are not expected to increase as a result of this rule.

3. This rule does not contain policies with Federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

List of Subjects in 15 CFR Part 744

Exports, Reporting and recordkeeping requirements, Terrorism.

Accordingly, part 744 of the Export Administration Regulations (15 CFR parts 730-774) is amended as follows:

PART 744—[AMENDED]

1. The authority citation for 15 CFR part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 15, 2021, 86 FR 52069 (September 17, 2021); Notice of November 10, 2021, 86 FR 62891 (November 12, 2021).

2. Supplement No. 4 to part 744 is amended:

a. Under BRAZIL by revising the entry for “Huawei Cloud Brazil”;

b. Under CHINA, PEOPLE'S REPUBLIC OF:

i. By removing the entries for “Huawei Technologies Co. Ltd.” and “Huawei Technologies Co., Ltd.”;

ii. By adding in alphabetical order entries for “Huawei Technologies Co., Ltd.” and “Jiangsu Tianyuan Metal Powder Co. Ltd.”; and

iii. By revising the entry for “Wavelet Electronics”;

c. Under PAKISTAN, by adding in alphabetical order entries for “Chemtech International (Private) Limited,” “Engineering Materials and Equipment Co.,” “Inspectech,” “Value Additions (Pvt) Ltd.,” and “X-Cilent Engineering”; and

d. Under UNITED ARAB EMIRATES by adding in alphabetical order an entry for “Odyssey General Trading FZC”.

The additions and revision read as follows:

Supplement No. 4 to Part 744—Entity List

* * * * *

Country | Entity | License requirement | License review policy | Federal Register citation
* * * * * * *
BRAZIL | Huawei Cloud Brazil, Sao Paulo, Brazil. | For all items subject to the EAR, see § 736.2(b)(3)(vi),¹ and 744.11 of the EAR, EXCEPT ² for technology subject to the EAR that is designated as EAR99, or controlled on the Commerce Control List for anti-terrorism reasons only, when released to members of a “standards organization” (see § 772.1) for the purpose of contributing to the revision or development of a “standard” (see § 772.1). | Presumption of denial | 85 FR 51603, 8/20/20; 87 FR [INSERT FR PAGE NUMBERNUMBER]; February 14, 2022.
| * * * * * *
* * * * * * *
CHINA, PEOPLE'S REPUBLIC OF | * * * * * *
| Huawei Technologies Co., Ltd., a.k.a., the following two aliases: —Shenzhen Huawei Technologies; and —Huawei Technology, and to include the following addresses and the following 22 affiliated entities: Addresses for Huawei Technologies Co., Ltd.: Bantian Huawei Base, Longgang District, Shenzhen, 518129, China; and No. 1899 Xi Yuan Road, High-Tech West District, Chengdu, 611731; and C1, Wuhan Future City, No. 999 Gaoxin Ave., Wuhan, Hebei Province; and Banxuegang Industrial Park, Buji Longgang, Shenzhen, Guangdong, 518129, China; and R&D Center, No. 2222, Golden Bridge Road, Pu Dong District, Shanghai, China; and Zone G, Huawei Base, Bantian, Longgang District, Shenzhen, China; and Tsim Sha Tsui, Kowloon, Hong Kong. | For all items subject to the EAR, see §§ 736.2(b)(3)(vi),¹ and 744.11 of the EAR, except for technology subject to the EAR that is designated as EAR99, or controlled on the Commerce Control List for anti-terrorism reasons only, when released to members of a “standards organization” (see § 772.1) for the purpose of contributing to the revision or development of a “standard” (see § 772.1). | Presumption of denial | 84 FR 22963, 5/21/19. 84 FR 43495, 8/21/19. 85 FR 29853, 5/19/20. 85 FR 36720, 6/18/20. 85 FR 51603, 8/20/20. 87 FR [INSERT FR PAGE NUMBER NUMBER]; February 14, 2022.
| Affiliated entities:
| Beijing Huawei Longshine Information Technology Co., Ltd., a.k.a., the following one alias:
| —Beijing Huawei Longshine, to include the following subordinate.
| Q80-3-25R, 3rd Floor, No. 3, Shangdi Information Road, Haidian District, Beijing, China.
| Hangzhou New Longshine Information Technology Co., Ltd., Room 605, No. 21, Xinba, Xiachang District, Hangzhou, China.
| Hangzhou Huawei Communication Technology Co., Ltd., Building 1, No. 410, Jianghong Road, Changhe Street, Binjiang District, Hangzhou, Zhejiang, China.
| Hangzhou Huawei Enterprises, No. 410 Jianghong Road, Building 1, Hangzhou, China.
| Huawei Digital Technologies (Suzhou) Co., Ltd., No. 328 XINHU STREET, Building A3, Suzhou (Huawei R&D Center, Building A3, Creative Industrial Park, No. 328, Xinghu Street, Suzhou), Suzhou, Jiangsu, China.
| Huawei Marine Networks Co., Ltd., a.k.a., the following four aliases:
| —Huawei Marine;
| —HMN Technologies;
| —Huahai Zhihui Technology Co., Ltd.,; and
| —HMN Tech.
| Building R4, No. 2 City Avenue, Songshan Lake Science & Tech Industry Park, Dongguan, 523808, and No. 62, Second Ave., 5/F-6/F, TEDA, MSD-B2 Area, Tianjin Economic and Technological Development Zone, Tianjin, 300457, China.
| Huawei Mobile Technology Ltd., Huawei Base, Building 2, District B, Shenzhen, China.
| Huawei Tech. Investment Co., U1 Building, No. 1899 Xiyuan Avenue, West Gaoxin District, Chengdu City, 611731, China.
| Huawei Technology Co., Ltd. Chengdu Research Institute, No. 1899, Xiyuan Ave., Hi-Tech Western District, Chengdu, Sichuan Province, 610041, China.
| Huawei Technology Co., Ltd. Hangzhou Research Institute, No. 410, Jianghong Rd., Building 4, Changhe St., Binjiang District, Hangzhou, Zhejiang Province, 310007, China.
| Huawei Technologies Co., Ltd. Beijing Research Institute, No. 3, Xinxi Rd., Huawei Building, ShangDi Information Industrial Base, Haidian District, Beijing, 100095, China; and No. 18, Muhe Rd., Building 1-4, Haidian District, Beijing, China.
| Huawei Technologies Co., Ltd. Material Characterization Lab, Huawei Base, Bantian, Shenzhen 518129, China.
| Huawei Technologies Co., Ltd. Xi'an Research Institute, National Development Bank Building (Zhicheng Building), No. 2, Gaoxin 1st Road, Xi'an High-tech Zone, Xi'an, China.
| Huawei Terminal (Shenzhen) Co., Ltd., Huawei Base, B1, Shenzhen, China.
| Nanchang Huawei Communication Technology, No. 188 Huoju Street, F10-11, Nanchang, China.
| Ningbo Huawei Computer & Net Co., Ltd., No. 48 Daliang Street, Ningbo, China.
| Shanghai Huawei Technologies Co., Ltd., R&D center, No. 2222, Golden Bridge Road, Pu Dong District, Shanghai, 286305 Shanghai, China, China.
| Shenzhen Huawei Anjiexin Electricity Co., Ltd., a.k.a., the following one alias:
| —Shenzhen Huawei Agisson Electric Co., Ltd.
| Building 2, Area B, Putian Huawei Base, Longgang District, Shenzhen, China; and Huawei Base, Building 2, District B, Shenzhen, China.
| Shenzhen Huawei New Technology Co., Ltd., Huawei Production Center, Gangtou Village, Buji Town, Longgang District, Shenzhen, China. Shenzhen Huawei Technology Service, Huawei Base, Building 2, District B, Shenzhen, China.
| Shenzhen Huawei Technologies Software, Huawei Base, Building 2, District B, Shenzhen, China.
| Zhejiang Huawei Communications Technology Co., Ltd., No. 360 Jiangshu Road, Building 5, Hangzhou, Zhejiang, China.
| * * * * * *
| Jiangsu Tianyuan Metal Powder Co. Ltd., No. 50, Jummin East Road, Yunhe, Lvcheng Town, Danyang City, Jiangsu Province, China 212352; and Canal military and civilians in Lucheng Town, Danyang City, Jiangsu Province 50 East Road, China, 212352; and No. 1, Airport East Road, Lucheng Town Danyang City, China; and Zhenjiang City, Jiangsu Zhenjiang, Danyang Lu Town Canal Army East, China. | All items subject to the EAR. (See § 744.11 of the EAR) | Presumption of denial | 87 FR [INSERT FR PAGE NUMBER DATE NUMBER]; February 14, 2022.
| * * * * * *
| Wavelet Electronics, Room 605, 6/F, Corporation Park, No. 11 on Lai Street, Shatin, New Territories, Hong Kong; and Building A2-3, Haufeng Industrial Park, Shiyan, Baoan District, Shenzhen, China; and RM511 5/F, Corporation Park, 11 ON LAI Street, Siu Lek Yuen, Shatin, N.T. Hong Kong. | All items subject to the EAR. (See § 744.11 of the EAR) | Presumption of denial | 86 FR 71560, 12/17/21. 87 FR [INSERT FR PAGE NUMBER NUMBER]; February 14, 2022.
| * * * * * *
* * * * * * *
PAKISTAN | * * * * * *
| Chemtech International (Private) Limited, B-35, Block-15, Gulsha-e-Iqbal, Karachi, Pakistan. | All items subject to the EAR. (See § 744.11 of the EAR) | See § 744.2(d) of the EAR | 87 FR [INSERT FR PAGE NUMBERNUMBER]; February 14, 2022.
| * * * * * *
| Engineering Materials and Equipment Co., a.k.a., the following one alias: | All items subject to the EAR. (See § 744.11 of the EAR) | See § 744.2(d) of the EAR. | 87 FR [INSERT FR PAGE NUMBERNUMBER]; February 14, 2022.
| —EMEC, Suite 7, Floor 6, Shaheen Complex, Egerton Road, Lahore 54010, Pakistan.
| * * * * * *
| Inspectech, Office Number 947, Block C, Faisal Town, Lahore, 54000, Pakistan. | All items subject to the EAR. (See § 744.11 of the EAR) | See § 744.2(d) of the EAR | 87 FR [INSERT FR PAGE NUMBER NUMBER]; February 14, 2022.
| * * * * * *
| Value Additions (Pvt) Ltd., 392-C, Qadeer Road, Rawalpindi, Pakistan. | All items subject to the EAR. (See § 744.11 of the EAR) | See § 744.2(d) of the EAR | 87 FR [INSERT FR PAGE NUMBER NUMBER]; February 14, 2022.
| * * * * * *
| X-Cilent Engineering, 642, Afshan Colony, Rawalpindi Cantt. 46,000, Pakistan. | All items subject to the EAR. (See § 744.11 of the EAR) | See § 744.2(d) of the EAR | 87 FR [INSERT FR PAGE NUMBER NUMBER]; February 14, 2022.
| * * * * * *
* * * * * * *
UNITED ARAB EMIRATES | * * * * * *
| Odyssey General Trading FZC, Sharjah Airport International Free Zone (SAIF), Executive Building, Office No P8-07-04 Sharjah, U.A.E.; and PO Box No. 121214, Sharjah, U.A.E. | All items subject to the EAR. (See § 744.11 of the EAR) | See § 744.2(d) of the EAR | 87 FR [INSERT FR PAGE NUMBER NUMBER]; February 14, 2022.
| * * * * * *
* * * * * * *
¹ For this entity, see § 734.9(e) of the EAR for foreign-produced items that are subject to the EAR and § 744.11 of the EAR for related license requirements, license review policy, and applicable license exceptions.
² Cybersecurity research and vulnerability disclosure. The following exports, reexports, and transfers (in-country) to Huawei Technologies Co., Ltd. (Huawei) and its non-U.S. affiliates on the Entity List for cybersecurity research and vulnerability disclosure subject to other provisions of the EAR are excluded from the Entity List license requirements: When the disclosure to Huawei and/or to its listed non-U.S. affiliates is limited to information regarding security vulnerabilities in items owned, possessed, or controlled by Huawei or any of its non-U.S. affiliates when related to the process of providing ongoing security research critical to maintaining the integrity and reliability of existing and currently ‘fully operational network’ and equipment. A ‘fully operational network’ refers to a ‘third party’ network providing services to the ‘third party's’ customers. The term ‘third party’ refers to a party that is not Huawei, one of its listed non-U.S. affiliates, or the exporter, reexporter, or transferor, but rather an organization such as a telecommunications service provider.

Matthew S. Borman,
Deputy Assistant Secretary for Export Administration.

[FR Doc. 2022-03029 Filed 2-11-22; 8:45 am]

BILLING CODE 3510-33-P